DEPARTMENT OF COMMERCE

Foreign-Trade Zones Board

[B-26-2019]

Foreign-Trade Zone (FTZ) 167—Green Bay, Wisconsin; Authorization of Production Activity; ProAmpac Holdings, Inc. (Flexible Packaging Applications); Neenah and Appleton, Wisconsin

On April 5, 2019, ProAmpac Holdings, Inc. submitted a notification of proposed production activity to the FTZ Board for its facilities within FTZ 167, in Neenah and Appleton, Wisconsin.

The notification was processed in accordance with the regulations of the FTZ Board (15 CFR part 400), including notice in the Federal Register inviting public comment (84 FR 16244-16245, April 18, 2019). On August 8, 2019, the applicant was notified of the FTZ Board's decision that no further review of the activity is warranted at this time. The production activity described in the notification was authorized, subject to the FTZ Act and the FTZ Board's regulations, including Section 400.14.

Dated: August 8, 2019.
Elizabeth Whiteman,
Acting Executive Secretary.

[FR Doc. 2019-17431 Filed 8-13-19; 8:45 am]

BILLING CODE 3510-DS-P